DEPARTMENT OF ENERGY

10 CFR Part 430

[Docket No. EERE-2008-BT-STD-0006]

RIN 1904-AB47

Energy Efficiency Program for Consumer Products: Notice to Extend the Comment Period for Residential Central Air Conditioners and Heat Pumps

AGENCY: Office of Energy Efficiency and Renewable Energy, Department of Energy.

ACTION: Extension of comment period for the Framework Document and subsequent public meeting request from interested parties.

SUMMARY: On June 6, 2008, the Department of Energy (DOE) published a notice of public meeting and availability of the Framework Document to the Federal Register (73 FR 32243) to announce to the public that DOE was beginning its rulemaking activities for residential central air conditioners and heat pumps. The notice of availability of the Framework document announced the closing date for receiving public comments would be July 7, 2008. Meeting attendees collectively requested that the comment period be extended to allow additional time to understand the document and prepare written comments. The Department agrees to this extension of the comment period and will extend the close of the comment period to 4:30 p.m. (EDT) July 31, 2008. The Department does not foresee that this extension will affect the publication due dates for any subsequent documentation associated with this rule or any associated public meetings.

The Framework document is written to inform stakeholders and to facilitate explanation of DOE's rulemaking process. It details the analytical approach and identifies several issues on which DOE is particularly interested in receiving comment. The Department of Energy is initiating the rulemaking and data collection process to consider establishing amended energy conservation standards for residential central air conditioners and heat pumps. DOE welcomes written comments from the public on this rulemaking. A copy of the Framework Document is available at: http://www.eere.energy.gov/buildings/appliance_standards/residential/central_ac_hp.html.

DATES: Comments must be received at DOE on or before 4:30 PM (EDT) July 31, 2008.

ADDRESSES: Please submit written comments to the U.S. Department of Energy, Forrestal Building, Mailstop EE-2J, 1000 Independence Avenue, SW., Washington, DC 20585-0121. Stakeholder's comments should be identified by docket number EERE-2008-BT-STD-0006 and/or Regulation Identifier Number (RIN) 1904-AB47, by any of the following methods:

• Federal eRulemaking Portal: http://www.regulations.gov. Follow the instructions for submitting comments.

• E-mail: Brenda.Edwards@ee.doe.gov or Res_Central_AC_HP@ee.doe.gov. Include EERE-2008-BT-STD-0006 and/or RIN 1904-AB47 in the subject line of the message.

• Mail: Ms. Brenda Edwards, U.S. Department of Energy, Building Technologies Program, Mailstop EE-2J, Framework Document for Central Air Conditioners and Heat Pumps, EERE-2008-BT-STD-0006 and/or RIN 1904-AB47, 1000 Independence Avenue, SW., Washington, DC 20585-0121. Please submit one signed paper original.

• Hand Delivery/Courier: Ms. Brenda Edwards, U.S. Department of Energy, Building Technologies Program, Sixth Floor, 950 L'Enfant Plaza, SW., Washington, DC 20024. Please submit one signed paper original.

Instructions: All submissions received must include the agency name and docket number or RIN for this rulemaking found at the beginning of this notice.

Docket: For access to the docket and to read background documents, a copy of the transcript of the public meeting once it is available, or comments received, go to the U.S. Department of Energy, Resource Room of the Building Technologies Program, Sixth Floor, 950 L'Enfant Plaza, SW., Washington, DC 20024, (202) 586-2945, between 9 a.m. and 4 p.m., Monday through Friday, except Federal holidays. Please call Ms. Brenda Edwards first at the above telephone number for additional information regarding visiting the Resource Room.

FOR FURTHER INFORMATION CONTACT: Mr. Wes Anderson, U.S. Department of Energy, Office of Energy Efficiency and Renewable Energy, Building Technologies, EE-2J, 1000 Independence Avenue, SW., Washington, DC 20585-0121. Telephone: (202) 586-7335.

E-mail: Wes.Anderson@ee.doe.gov.

Mr. Eric Stas or Mr. Michael Kido, U.S. Department of Energy, Office of the General Counsel, GC-72, 1000 Independence Avenue, SW., Washington, DC 20585-0121. Telephone: (202) 586-9507. E-mail: Eric.Stas@hq.doe.gov or Michael.Kido@hq.doe.gov.

Issued in Washington, DC, on June 23, 2008.
Alexander A. Karsner,
Assistant Secretary, Energy Efficiency and Renewable Energy.

[FR Doc. E8-15142 Filed 7-2-08; 8:45 am]

BILLING CODE 6450-01-P